DEPARTMENT OF HOUSING AND URBAN DEVELOPMENT

[Docket No. FR-5375-N-22]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Department of the Army, Office of the Assistant Chief of Staff for Installation Management, DAIM-ZS, Room 8536, 2511 Jefferson Davis Hwy, Arlington, VA 22202; (703) 601-2545; (These are not toll-free numbers).

Dated: June 3, 2010.
Mark R. Johnston,
Deputy Assistant Secretary for Special Needs.

Title V, Federal Surplus Property Program Federal Register Report For 06/11/2010

Unsuitable Properties

Building

Alabama

Bldg. 00071

Anniston Army Depot

Calhoun AL 36201

Landholding Agency: Army

Property Number: 21201020001

Status: Unutilized

Reasons: Extensive deterioration

Bldg. 03645

Redstone Arsenal

Madison AL 35898

Landholding Agency: Army

Property Number: 21201020002

Status: Unutilized

Reasons: Extensive deterioration

Bldgs. C1304, C1329, C1387

Army Tng Center

Ft. McClellan AL 36205

Landholding Agency: Army

Property Number: 21201020003

Status: Unutilized

Reasons: Extensive deterioration

Colorado

Bldgs. 814, 1919

Fort Carson

El Paso CO 80913

Landholding Agency: Army

Property Number: 21201020004

Status: Unutilized

Reasons: Secured Area

District of Columbia

Bldg. 51

Fort McNair

Washington, DC

Landholding Agency: Army

Property Number: 21201020005

Status: Unutilized

Reasons: Secured Area and Extensive deterioration

Georgia

Bldg. 8511

Fort Benning

Ft. Benning GA 31905

Landholding Agency: Army

Property Number: 21201020006

Status: Unutilized

Reasons: Extensive deterioration

Hawaii

Bldg. A1535

Fort Shafter

Honolulu HI

Landholding Agency: Army

Property Number: 21201020007

Status: Unutilized

Reasons: Extensive deterioration

Bldgs. 646, 2105, 2106

Schofield Barracks

Honolulu HI 96786

Landholding Agency: Army

Property Number: 21201020010

Status: Unutilized

Reasons: Secured Area

Indiana

Bldg. 481

Jefferson Proving Ground

Madison IN 47250

Landholding Agency: Army

Property Number: 21201020008

Status: Excess

Reasons: Extensive deterioration

Bldg. 7719

Fort Knox

Ft. Knox IN 40121

Landholding Agency: Army

Property Number: 21201020009

Status: Unutilized

Reasons: Extensive deterioration

Kentucky

Bldgs. 624, 1166, 1168

Blue Grass Army Depot

Richmond KY 40475

Landholding Agency: Army

Property Number: 21201020011

Status: Unutilized

Reasons: Extensive deterioration

Maryland

5 Bldgs.

Aberdeen Proving Ground

Aberdeen MD 21005

Landholding Agency: Army

Property Number: 21201020012

Status: Unutilized

Directions: E4082, E4083, E4084, E4085, E6834

Reasons: Secured Area

Missouri

13 Bldgs.

Fort Leonard Wood

Pulaski MO 65473

Landholding Agency: Army

Property Number: 21201020013

Status: Unutilized

Directions: 182, 701 702, 703, 704, 705, 705A, 706, 707, 708, 709, 710, 2101

Reasons: Secured Area

New Jersey

Bldgs. 166, 167, 197

Picatinny Arsenal

Morris NJ 07806

Landholding Agency: Army

Property Number: 21201020014

Status: Unutilized

Reasons: Secured Area

New York

9 Bldgs.

Fort Drum

Jefferson NY 13602

Landholding Agency: Army

Property Number: 21201020015

Status: Unutilized

Directions: 539, 1123, 1124, 1125, 1131, 1132, 1141, 1142, 1143

Reasons: Extensive deterioration

6 Bldgs.

Fort Drum

Jefferson NY 13602

Landholding Agency: Army

Property Number: 21201020016

Status: Unutilized

Directions: 1151, 1152, 1162, 1163, 1185, 1199

Reasons: Extensive deterioration

6 Bldgs.

Fort Drum

Jefferson NY 13602

Landholding Agency: Army

Property Number: 21201020017

Status: Unutilized

Directions: 1235, 1249, 1252, 1293, 2160, 2161

Reasons: Extensive deterioration

4 Bldgs.

Fort Hamilton

Brooklyn NY 11252

Landholding Agency: Army

Property Number: 21201020018

Status: Unutilized

Directions: FENCC, 214, 215, 228

Reasons: Secured Area

North Carolina

12 Bldgs.

Fort Bragg

Ft. Bragg NC 28310

Landholding Agency: Army

Property Number: 21201020019

Status: Unutilized

Directions: 661A, M2146, C2629, F2630, A3527, C3609, A3726, A3728, C3731, A3732, A3734, A3736

Reasons: Secured Area

8 Bldgs.

Fort Bragg

Ft. Bragg NC 28310

Landholding Agency: Army

Property Number: 21201020020

Status: Unutilized

Directions: E4169, C4229, E4269, C4329, N5338, N5535, A5621, N5733

Reasons: Extensive deterioration and Secured Area

11 Bldgs.

Fort Bragg

Ft. Bragg NC 28310

Landholding Agency: Army

Property Number: 21201020021

Status: Unutilized

Directions: A6133, C7017, C7018, C7116, C7118, C7244, C7342, C7444, C7549, C7842, C7943

Reasons: Extensive deterioration and Secured Area

9 Bldgs.

Fort Bragg

Ft. Bragg NC 28310

Landholding Agency: Army

Property Number: 21201020022

Status: Unutilized

Directions: C8142, C8241, C8339, C8438, 21248, 22014, 42128, 82714, 09039

Reasons: Extensive deterioration and Secured Area

Pennsylvania

Bldg. 891

Carlisle Barracks

Cumberland PA 17013

Landholding Agency: Army

Property Number: 21201020023

Status: Excess

Reasons: Secured Area

Bldgs. 241, 2011

Defense Distri. Depot

New Cumberland PA 17070

Landholding Agency: Army

Property Number: 21201020024

Status: Underutilized

Reasons: Secured Area

Tennessee

Bldgs. ZZ001, ZZ002

Milan AAP

Milan TN 38358

Landholding Agency: Army

Property Number: 21201020025

Status: Excess

Reasons: Extensive deterioration, Secured Area and Within 2000 ft. of flammable or explosive material

Texas

Bldg. 25

Brownwood

Brown TX 76801

Landholding Agency: Army

Property Number: 21201020033

Status: Unutilized

Reasons: Extensive deterioration

Utah

5 Bldgs.

Tooele Army Depot

Tooele UT 84074

Landholding Agency: Army

Property Number: 21201020032

Status: Unutilized

Directions: 26, A, B; 27, A, B; 28, A, B; 29, A, B; 520

Reasons: Secured Area

Virginia

8 Bldgs.

Hampton Readiness Center

Hampton VA 23666

Landholding Agency: Army

Property Number: 21201020026

Status: Unutilized

Directions: 8, 9, 10, 12, 13, 14, 15, 23

Reasons: Extensive deterioration

Bldg. T1207

Fort A.P. Hill

Bowling Green VA 22427

Landholding Agency: Army

Property Number: 21201020027

Status: Unutilized

Reasons: Extensive deterioration

Bldgs. P0837, T1138

Fort Eustis

Ft. Eustis VA 23604

Landholding Agency: Army

Property Number: 21201020028

Status: Unutilized

Reasons: Extensive deterioration

Washington

6 Bldgs.

Joint Base Lewis/McChord

Ft. Lewis WA 98433

Landholding Agency: Army

Property Number: 21201020029

Status: Unutilized

Directions: 2202, 2204, 2205, 2206, 2260, 2265

Reasons: Secured Area

Bldgs. 3423, 3442, 3444 Fort Lewis

Pierce WA 98433

Landholding Agency: Army

Property Number: 21201020030

Status: Unutilized

Reasons: Extensive deterioration and Secured Area

Wisconsin

Bldg. 1306 Fort McCoy

Monroe WI 54656

Landholding Agency: Army

Property Number: 21201020031

Status: Unutilized

Reasons: Secured Area

Land

Texas

Land 1

Brownwood

Brown TX 76801

Landholding Agency: Army

Property Number: 21201020034

Status: Unutilized

Reasons: Contamination

[FR Doc. 2010-13692 Filed 6-10-10; 8:45 am]

BILLING CODE 4210-67-P